DEPARTMENT OF AGRICULTURE

Farm Service Agency

Information Collection: Power of Attorney

AGENCY: Farm Service Agency, USDA.

ACTION: Notice; request for comments.

SUMMARY: In accordance with the Paperwork Reduction Act of 1995, the Farm Service Agency (FSA) is seeking comments from all interested individuals and organizations on the extension of a currently approved information collection associated with the Power of Attorney. This information collection is used to support the FSA, Commodity Credit Corporation (CCC) and Risk Management Agency (RMA) in conducting business and accepting signatures on documents from individuals acting on behalf of other individuals or entities.

DATES: We will consider comments that we receive by October 13, 2009.

ADDRESSES: We invite you to submit comments on this notice. In your comments, include date, volume, and page number of this issue of the Federal Register. You may submit comments by any of the following methods:

• Mail: Mike Sienkiewicz, Agricultural Program Specialist, USDA, FSA, STOP 0572, 1400 Independence Avenue, SW., Washington, DC 20250-0572.

• E-mail: mike.sienkiewicz@wdc.usda.gov.

• Fax: (202) 720-0051.

You may also send comments to the Desk Officer for Agriculture, Office of Information and Regulatory Affairs, Office of Management and Budget, Washington, DC 20503. Copies of the information collection may be requested by contacting Mike Sienkiewicz at the above addresses.

FOR FURTHER INFORMATION CONTACT: Mike Sienkiewicz, Agricultural Program Specialist, (202) 720-8959.

SUPPLEMENTARY INFORMATION: Title: Power of Attorney.

OMB Control Number: 0560-0190.

Expiration Date of Approval: March 31, 2010.

Type of Request: Extension of a currently approved information collection.

Abstract: Individuals or entities that want to appoint another to act as an attorney-in-fact in connection with certain FSA, CCC, RMA programs and related actions must complete a FSA-211, Power of Attorney form. The FSA-211 is the form that is used by a grantor to appoint another to act on the individual's or entity's behalf for certain FSA, CCC, and RMA programs and related actions, giving the appointee legal authority to enter into certain binding agreements on the grantor's behalf. The FSA-211 also provides FSA, CCC and RMA a source to verify an individual's authority to sign and act for another in the event of errors or fraud. The information collected on the FSA-211 is limited to grantor's name, signature and identification number, the grantee's address, and the applicable FSA, CCC, and RMA programs.

Estimate of Average Time To Respond: .25 hours per response.

Respondents: Individuals or authorized representatives of entities, such as corporations, who want to appoint an attorney-in-fact to act on their behalf.

Estimated Number of Respondents: 179,822.

Estimated Number of Responses per Respondent: 1.

Estimated Number of Responses: 179,822.

Estimated Total Annual Burden on Respondents: 44,956 hours.

We are requesting comments on all aspects of this information collection, including the following, to help us:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments to this notice will be summarized and included in the request for OMB approval. All comments will also become a matter of public record.

Signed at Washington, DC, on August 4, 2009.
Jonathan W. Coppess,
Administrator, Farm Service Agency.

[FR Doc. E9-19349 Filed 8-11-09; 8:45 am]

BILLING CODE 3410-05-P